DEPARTMENT OF TRANSPORTATION

Pipeline and Hazardous Materials Safety Administration

[Docket No. PHMSA-2008-0211]

Pipeline Safety: Implementation of Electronic Filing for Recently Revised Incident/Accident Report Forms for Distribution Systems, Gas Transmission and Gathering Systems, and Hazardous Liquid Systems

AGENCY: Pipeline and Hazardous Materials Safety Administration (PHMSA), DOT.

ACTION: Notice; Issuance of Advisory Bulletin.

SUMMARY: This notice advises owners and operators of gas pipeline facilities and hazardous liquid pipeline facilities that the new incident/accident report forms for their pipeline systems are now available for electronic filing.

FOR FURTHER INFORMATION CONTACT: Jamerson Pender, Information Resources Manager, 202-366-0218 or by e-mail at Jamerson.Pender@dot.gov.

SUPPLEMENTARY INFORMATION:

Background

On February 3, 2010 (75 FR 5460), PHMSA published Advisory Bulletin ADB-10-01 in the Federal Register to notify operators of gas and hazardous liquid pipeline facilities of newly revised incident/accident report forms and instructions. In ADB-10-01, PHMSA announced that the revised forms are to be used for all incidents/accidents occurring on or after January 1, 2010. PHMSA further noted that hard copy filing was required until PHMSA launched a new online system which was targeted for early March 2010. The new online system became available on March 8, 2010, and is available at the following URL: http://pipelineonlinereporting.phmsa.dot.gov/.

Advisory Bulletin (ADB-10-04)

To: Owners and Operators of Gas Pipeline Facilities and Hazardous Liquid Pipeline Facilities.

Subject: Implementation of Electronic Filing for Recently Revised Incident/Accident Report Forms for Gas Distribution Systems, Gas Transmission and Gathering Systems, and Hazardous Liquid Systems.

Advisory: This notice advises owners and operators of gas pipeline facilities and hazardous liquid pipeline facilities that the new electronic incident/accident reporting system is available online at the following URL: http://pipelineonlinereporting.phmsa.dot.gov/. The new online system can also be accessed through the old system at the following URL: http://opsweb.phmsa.dot.gov and click on “Incidents on or after Jan 1, 2010” for the respective report type. Each operator may use their current operator ID and PIN from the old system to access the new system. The new online system is for incidents/accidents occurring on or after January 1, 2010. The old online system is still available for filing supplemental reports for incidents/accidents that occurred prior to January 1, 2010, and is still the system for filing annual reports and Gas Integrity Management Program (IMP) reports.

Incidents and accidents that were previously filed in hard copy are being entered by PHMSA staff and should not be reentered by the operator into the system. Operators that have already submitted a hard copy 2010 incident report as previously instructed in ADB-10-01 should not re-submit that report using the online system. Where data quality checks are indicated for the hard copy filed reports, PHMSA will contact operators as needed to facilitate complete data entry for the initial submissions. Once all reports received in hard copy have been entered by PHMSA, operators will be able to submit supplemental reports online if needed. In addition, PHMSA is aligning the hard copy forms with the new online system by replacing the double asterisks with the single asterisks for those data fields deemed required for an initial submission to PHMSA.

PHMSA notes that for hazardous liquid small releases (identified as the areas shaded in gray on the hard copy version of the hazardous liquid accident form), the new online system will accept reporting and does the required logic checks for small releases (those under five barrels that do not involve a fatality, injury, property damage of $50,000 or more, as described in 49 CFR 195.50). However, the new online system does not exclude or hide questions that are not applicable to small releases. Therefore, PHMSA recommends that operators who report such events follow the shaded sections on the hard copy accident form and the guidance provided in the hard copy instructions while entering those events with the online system until a system enhancement is in place to further streamline the online reporting process.

PHMSA appreciates the cooperation of all users of the new online system. For questions regarding filing, please contact Jamerson Pender at 202-366-0218 or by e-mail at Jamerson.Pender@dot.gov.

Any questions regarding this new online system requirement can be directed to the Office of Pipeline Safety operator helpline at 202-366-8075.

Issued in Washington, DC, on April 22, 2010.
Jeffrey D. Wiese,
Associate Administrator for Pipeline Safety.

[FR Doc. 2010-10018 Filed 4-28-10; 8:45 am]

BILLING CODE 4910-60-P